DEPARTMENT OF ENERGY

Federal Energy Regulatory Commission

[Docket No. EL09-47-000, Docket No. EL09-48-000]

Richard Blumenthal, Attorney General for the State of Connecticut, Complainant v. ISO New England Inc., Brookfield Energy Marketing Inc., H.Q Energy Services (US) Inc., Constellation Energy Commodities Group, Inc. and Other Unidentified Installed Capacity Resources Committed To Import Over the Northern New York AC Interface, Respondent; The Connecticut Department of Public Utility Control and The Connecticut Office of Consumer Counsel, Complainant v. ISO New England Inc., Brookfield Energy Marketing Inc., H.Q Energy Services (US) Inc., Constellation Energy Commodities Group, Inc. and Other Unidentified Installed Capacity Resources Committed To Import Over the Northern New York AC Interface, Respondent; Notice of Complaint

May 28, 2009.

Take notice that on May 22, 2009, pursuant to sections 206, 222, and 309 of the Federal Power Act, 16 U.S.C. 824(e), 824(v), and 825h (2006) and Rules 206 and 215 of the Rules of Practice and Procedure, 18 CFR 385.206 and 385.215 (2008) and Part 1(c) of the Commission's Rules and Regulations, 18 CFR part 1c, Richard Blumenthal, Attorney General for the State of Connecticut, the Connecticut Department of Public Utility Control, and the Connecticut Office of Consumer Counsel (collectively the Complainants) filed a Consolidated Amended Complaint against the ISO New England Inc., Brookfield Energy Marketing, Inc. HQ Energy Services (US) Inc., Constellation Energy Commodities Group, Inc. and Other Unidentified Installed Capacity Resources Committed to Import over the Northern New York AC Interface (NNY Capacity Resources) (collectively the Respondents), seeking a Commission investigation and hearing into installed capacity resources who received capacity payments but were unavailable to provide capacity services when called upon and seeking market monitor reforms.

The Complainants state that a copy of the complaint has been served on the Respondents and New England Power Pool, Inc, who represents the NNY Capacity Resources.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 11, 2009.

Kimberly D. Bose,
Secretary.

[FR Doc. E9-13003 Filed 6-3-09; 8:45 am]

BILLING CODE 6717-01-P